FARM CREDIT ADMINISTRATION

Farm Credit Administration Board Policy Statements

AGENCY: Farm Credit Administration.

ACTION: Notice.

SUMMARY: The Farm Credit Administration (FCA) is publishing the list of FCA Board policy statements, which has not changed since its last publication.

FOR FURTHER INFORMATION CONTACT: Wendy Laguarda, Senior Counsel, Office of General Counsel, Farm Credit Administration, 1501 Farm Credit Drive, McLean Virginia 22102-5090, (703) 883-4020, TTY (703) 883-4020.

SUPPLEMENTARY INFORMATION: On November 25, 2005, we published a list of all current FCA Board policy statements and the text of each in their entirety. (See 70 FR 71142.) This list is still current and is being republished. (We are not publishing the text.) The FCA will continue to publish policy statements in their full text when there are changes.

FCA Board Policy Statements

FCA-PS-34 Disclosure of the Issuance and Termination of Enforcement Documents

FCA-PS-37 Communications During Rulemaking

FCA-PS-41 Alternative Means of Dispute Resolution

FCA-PS-44 Travel

FCA-PS-53 Examination Philosophy

FCA-PS-59 Regulatory Philosophy

FCA-PS-62 Equal Employment Opportunity Programs and Diversity

FCA-PS-64 Rules for the Transaction of Business of the Farm Credit Administration Board

FCA-PS-65 Release of Consolidated Reporting System Information

FCA-PS-67 Nondiscrimination on the Basis of Disability in Agency Programs and Activities

FCA-PS-68 FCS Building Association Management Operations Policies and Practices

FCA-PS-71 Disaster Relief Efforts by Farm Credit Institutions

FCA-PS-72 Financial Institution Rating System (FIRS)

FCA-PS-77 Borrower Privacy

FCA-PS-78 Official Names of Farm Credit System Institutions

Dated: June 7, 2006.
Roland E. Smith,
Secretary, Farm Credit Administration Board.

[FR Doc. E6-9157 Filed 6-12-06; 8:45 am]

BILLING CODE 6705-01-P